DEPARTMENT OF EDUCATION

Applications for New Awards; From Seedlings To Scale Grant Program and Research Networks Focused on Critical Problems of Education Policy and Practice; Correction

AGENCY: Institute of Education Sciences, Department of Education.

ACTION: Notice; correction.

SUMMARY: On June 17, 2024, the Department of Education (Department) published a notice inviting applications notice inviting applications (NIA) for new awards for fiscal year (FY) 2025 for the From Seedlings to Scale Grant Program and Research Networks Focused on Critical Problems of Education Policy and Practice. We are correcting the ALN for the From Seedlings to Scale Grant Program competition from 84.305I to 84.305J. All other information in the NIA remains the same.

DATES: This correction is effective June 27, 2024.

FOR FURTHER INFORMATION CONTACT: Teresa Cahalan, Department of Education, 400 Maryland Avenue SW, Washington, DC 20202. Telephone: (202) 245-7299. Email: Teresa.Cahalan@ed.gov.

If you are deaf, hard of hearing, or have a speech disability and wish to access telecommunications relay services, please dial 7-1-1.

SUPPLEMENTARY INFORMATION: On June 17, 2024, the Department published an NIA for new awards for FY 2025 for the From Seedlings to Scale Grant Program and Research Networks Focused on Critical Problems of Education Policy and Practice. (89 FR 51317). We are correcting the ALN for the From Seedlings to Scale Grant Program competition.

Correction

In FR Doc. No. 2024-13268, appearing on page 51317-51320 of the Federal Register of June 17, 2024, we make the following corrections:

1. On page 51317, in the second column, following the italicized heading “Assistance Listing Numbers:” we remove ”84.305I” and add, in its place “84.305J”.

2. On page 51317, in the second column, following the italicized heading, “From Seedlings to Scale”, we remove “84.305I” and add, in its place “84.305J”.

3. On page 51318, in the second column, in the paragraph that begins “For the From Seedlings to Scale grant program”, we remove “84.305I” and add, in its place “84.305J”.

4. On page 51319, in the first column, in the paragraph that begins “For the 84.305I competition,” we remove “84.305I” and add, in its place “84.305J”.

Program Authority: 29 U.S.C. 3292.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Matthew Soldner,
Acting Director, Institute of Education Sciences.

[FR Doc. 2024-14041 Filed 6-26-24; 8:45 am]

BILLING CODE 4000-01-P